DEPARTMENT OF COMMERCE

International Trade Administration

[A-201-838]

Seamless Refined Copper Pipe and Tube From Mexico: Rescission of Antidumping Duty Administrative Review; 2017-2018

AGENCY: Enforcement and Compliance, International Trade Administration, Department of Commerce.

SUMMARY: The Department of Commerce (Commerce) is rescinding the administrative review of the antidumping duty order on seamless refined copper pipe and tube from Mexico for the period November 1, 2017, through October 31, 2018.

DATES: Applicable April 5, 2019.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On November 1, 2018, Commerce published a notice of opportunity to request an administrative review of the antidumping duty order on seamless refined copper pipe and tube from Mexico for the period of review (POR) November 1, 2017, through October 31, 2018.¹

¹ See Antidumping or Countervailing Duty Order, Finding, or Suspended Investigation; Opportunity to Request Administrative Review, 83 FR 54912 (November 1, 2018).

On November 30, 2018, the Mueller Copper Tube Products, Inc. and Mueller Copper Tube Company, Inc., the petitioners in this proceeding, requested an administrative review of the order of seamless refined copper pipe and tube from Mexico with respect to entries of subject merchandise during the POR.² On February 6, 2019, in accordance with section 751(a) of the Tariff Act of 1930, as amended (the Act) and 19 CFR 351.221(c)(1)(i), we initiated an administrative review of the order on seamless refined copper pipe and tube from Mexico with respect to: (1) Nacional de Cobre, S.A. de C.V.; (2) IUSA, S.A. de C.V.; and (3) GD Affiliates S. de R.L. de C.V.³ On March 27, 2019, the petitioners withdrew their request for an administrative review of all three companies listed in the Initiation Notice.⁴ No other party requested an administrative review of this order.

² See the petitioner's submission, “Seamless Refined Copper Pipe and Tube from Mexico: Request for Antidumping Duty Administrative Review,” dated November 30, 2018.

³ See Initiation of Antidumping and Countervailing Duty Administrative Reviews, 84 FR 2159 (February 6, 2019) (Initiation Notice).

⁴ See the petitioner's submission, “Seamless Refined Copper Pipe and Tube from Mexico: Withdrawal of Request for Administrative Review,” dated March 27, 2019.

Rescission of Review

Pursuant to 19 CFR 351.213(d)(1), the Secretary will rescind an administrative review, in whole or in part, if a party who requested the review withdraws its request within 90 days of the date of publication of the notice of initiation of the requested review. In this case, the petitioners timely withdrew their request by the 90-day deadline, and no other party requested an administrative review of the antidumping duty order. Therefore, we are rescinding the administrative review of the antidumping duty order on seamless refined copper pipe and tube from Mexico for the period November 1, 2017, through October 31, 2018, in its entirety, in accordance with 19 CFR 351.213(d)(1).

Assessment

Commerce intends to instruct U.S. Customs and Border Protection (CBP) to assess antidumping duties on all appropriate entries of seamless refined copper pipe and tube from Mexico during the POR at rates equal to the cash deposit of estimated antidumping duties required at the time of entry, or withdrawal from warehouse, for consumption, in accordance with 19 CFR 351.212(c)(1)(i). Commerce intends to issue appropriate assessment instructions to CBP 41 days after the publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and terms of an APO is a violation which is subject to sanction.

This notice is issued and published in accordance with sections 751(a)(1) and 777(i)(1) of the Act, and 19 CFR 351.213(d)(4).

Dated: April 2, 2019.
James Maeder,
Associate Deputy Assistant Secretary for Antidumping and Countervailing Duty Operations performing the duties of Deputy Assistant Secretary for Antidumping and Countervailing Duty Operations.

[FR Doc. 2019-06706 Filed 4-4-19; 8:45 am]

BILLING CODE 3510-DS-P